GENERAL SERVICES ADMINISTRATION

[Notice-PBS-2013-02; Docket No: 2013-0002; Sequence 12]

Federal Management Regulation; Delegations of Lease Acquisition Authority—Notification, Usage, and Reporting Requirements for General Purpose, Categorical, and Special Purpose Space Delegations; Corrections

AGENCY: Public Buildings Service (PBS), General Services Administration (GSA).

ACTION: Notice of FMR Bulletin C-2; Corrections.

SUMMARY: GSA published a notice in the Federal Register on April 16, 2014, regarding Delegations of Lease Acquisition Authority—Notification, Usage, and Reporting Requirements for General Purpose, Categorical, and Special Purpose Space Delegations. GSA is making corrections to the Supplementary Information section of the document.

DATE: Effective: July 3, 2014.

FOR FURTHER INFORMATION CONTACT: Contact Ms. Mary Pesina, Director, Center for Lease Delegations, Office of Leasing, Public Buildings Service, at 202-236-1686, or mary.pesina@gsa.gov.

SUPPLEMENTARY INFORMATION:

Corrections

In the notice FR Doc. 2014-08645 published in the Federal Register at 79 FR 21464, April 16, 2014, make the following corrections:

1. On page 21465, in the first column, remove “Anne E. Rung, Associate Administrator.” and add “Anne E. Rung, Associate Administrator, Office of Government-wide Policy.” in its place.

2. On page 21465, in the first column, under General Services Administration heading of the bulletin portion, remove “Add date signed” and add “April 10, 2014.” in its place.

3. On page 21469, in the second column, first line, remove “Associate Administrator.” and add “Associate Administrator, Office of Government-wide Policy.” in its place.

Dated: June 26, 2014.
Carolyn Austin-Diggs,
Acting Deputy Associate Administrator, Office of Asset and Transportation Management, Office of Government-wide Policy.

[FR Doc. 2014-15645 Filed 7-2-14; 8:45 am]

BILLING CODE 6820-23-P